DEPARTMENT OF HOMELAND SECURITY

Coast Guard

[USCG-2006-25379]

Navigation Safety Advisory Council; Vacancies

AGENCY: Coast Guard, DHS.

ACTION: Request for applications.

SUMMARY: The Coast Guard seeks applications for membership on the Navigation Safety Advisory Council (NAVSAC). NAVSAC provides advice and makes recommendations to the Secretary on a wide range of issues related to the prevention of collisions, rammings, and groundings. This includes, but is not limited to: Inland and International Rules of the Road, navigation regulations and equipment, routing measures, marine information, diving safety, and aids to navigation systems.

DATES: Application forms should reach us on or before September 30, 2006.

ADDRESSES: You may request an application form by writing to NAVSAC Application; Commandant (G-PWM-1), Room 1406; U.S. Coast Guard; 2100 Second Street, SW., Washington, DC 20593-0001; by calling 202-372-1532; or by faxing 202-372-1929. Send your original completed and signed application in written form to the above street address. Also you may obtain a copy of the application via the Internet at http://dms.dot.gov or http://www.uscg.mil/hq/g-m/advisory/index.htm. This notice is also available at http://dms.dot.gov.

FOR FURTHER INFORMATION CONTACT: Mr. John Bobb; Executive Secretary of NAVSAC, telephone 202-372-1532, fax 202-372-1929, or mail to: jbobb@comdt.uscg.mil.

SUPPLEMENTARY INFORMATION: The Navigation Safety Advisory Council (NAVSAC) is a Federal advisory committee under 5 U.S.C. App. 2. It advises the Secretary on a wide range of issues related to the prevention of collisions, rammings, and groundings. This includes, but is not limited to: Inland and International Rules of the Road, navigation regulations and equipment, routing measures, marine information, diving safety, and aids to navigation systems. This advice also assists the Coast Guard in formulating the position of the United States in advance of meetings of the International Maritime Organization.

NAVSAC meets at least once a year at Coast Guard Headquarters, Washington, DC, or another location selected by the Coast Guard. It may also meet for extraordinary purposes. Its working groups may meet to consider specific problems as required.

We will consider applications for seven positions whose terms expire on November 4, 2006. Applications will be considered from persons representing, insofar as practical, from the following groups: Five persons from recognized experts and leaders in organizations having an active interest in the Rules of the Road and vessel and port safety; and, two persons from professional mariners, recreational boaters, and the recreational boating industry.

Organizations having an active interest in the Rules of the Road and vessel and port safety are considered to include organizations representing vessel owners and operators of vessel operating on international waters and inland waters of the United States, the Federal and state Maritime academies, maritime education and training institutions teaching Rules of the Road, navigation, and electronic navigation, and organizations established to facilitate vessel movement and navigational safety. Members from these organizations are appointed to express the viewpoint of the organizations listed above and are not Special Government Employees as defined in section 202(a) of title 18, United States Code and will be appointed as Representative Members.

Professional mariners are considered to include actively working or retired mariners experienced in applying the Inland and/or International Rules as masters or licensed deck officers of vessels operating on international waters or the inland waters of the United States, and federal-or state-licensed pilots. Recreational boaters and the recreational boating industry are specifically identified groups that members may represent. Members from these groups are appointed to express the viewpoint of the groups listed above in which they serve or have served and are not Special Government Employees as defined in section 202(a) of title 18, United States Code and will be appointed as Representative Members.

All individuals meeting either of the above requirements are invited to apply including women and ethnic minorities.

Each NAVSAC member serves for a term of 3 years and may be reappointed for one additional term. All members serve at their own expense but receive reimbursement for travel and per diem expenses from the Federal Government.

In support of the policy of the Department of Homeland Security on gender and ethnic diversity, we encourage qualified women and members of minority groups to apply.

Dated: July 13, 2006.
W.A. Muilenburg,
Captain, U.S. Coast Guard, Acting Director of Waterways Management.

[FR Doc. E6-11376 Filed 7-18-06; 8:45 am]

BILLING CODE 4910-15-P